DEPARTMENT OF HOMELAND SECURITY

Coast Guard

33 CFR Part 110

[Docket No. USCG-2008-0155]

RIN 1625-AA01

Anchorage Regulations; Port of New York; Correction

AGENCY: Coast Guard, DHS.

ACTION: Final rule; correction.

SUMMARY: The Coast Guard is correcting the preamble to a final rule that appeared in the Federal Register of March 11, 2009 (74 FR 10484). The preamble incorrectly referred to Department of Homeland Security Management Directive 5100.1, instead of Department of Homeland Security Management Directive 0023.1.

DATES: Effective April 10, 2009.

FOR FURTHER INFORMATION CONTACT: LT Edward Munoz, Chief, Waterways Management Division, telephone 718-354-2353.

SUPPLEMENTARY INFORMATION: In FR Doc. E9-5095 appearing on page 10484 of the Federal Register of Wednesday, March 11, 2009, the following correction is made:

1. On page 10486, in the second column, correct the “Environment” section to read: “We have analyzed this rule under Department of Homeland Security Directive 0023.1 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph 34(f), of the Instruction. This rule involves a regulation reducing the size of an anchorage ground.

Under figure 2-1, paragraph (34)(f), of the Instruction, an environmental analysis checklist and a categorical exclusion determination are not required for this rule.”

Dated: March 12, 2009.
Steve G. Venckus,
Chief, Office of Regulations and Administrative Law.

[FR Doc. E9-5757 Filed 3-16-09; 8:45 am]

BILLING CODE 4910-15-P